DEPARTMENT OF ENERGY

Federal Energy Regulatory Commission

[Project No. 2216-066]

New York Power Authority; Notice of Application Accepted for Filing and Soliciting Motions To Intervene and Protests

October 19, 2005.

Take notice that the following hydroelectric application has been filed with the Commission and is available for public inspection.

a. Type of Application: New Major License.

b. Project No.: 2216-066.

c. Date Filed: August 18, 2005.

d. Applicant: New York Power Authority.

e. Name of Project: Niagara Power Project, which consists of the Lewiston Pump Generating Plant and the Robert Moses Niagara Power Plant.

f. Location: The Niagara Power Project is located on the Niagara River in the City of Niagara Falls and the Towns of Niagara and Lewiston, in Niagara County, New York.

g. Filed Pursuant to: Federal Power Act 16 U.S.C. 791(a)-825(r).

h. Applicant Contact: Frederick E. Chase, Executive Director of Hydropower Relicensing, Power Authority of the State of New York, 30 South Pearl Street, Albany, NY 12207-3425, (518) 433-6738 or chase.f@nypa.gov.

i. FERC Contact: Steve Kartalia, (202) 502-6131 or Stephen.kartalia@ferc.gov.

j. Deadline for filing motions to intervene and protests: 60 days from the issuance date of this notice.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene and protests may be filed electronically via the Internet in lieu of paper. The Commission strongly encourages electronic filings. See 18 CFR 385.2001(a)(1)(iii) and the instructions on the Commission's Web site (http://www.ferc.gov) under the “e-Filing” link.

k. This application has been accepted, but is not ready for environmental analysis at this time.

l. Description of Project: The existing project has a conventional development and a pumped storage development for a total current installed capacity of 2,538 megawatts (based on currently completed upgrades). Existing project facilities include: (a) Two 700-foot-long intake structures located on the upper Niagara River about 2.6 miles upstream from the American Falls; (b) two 4.3-mile-long concrete underground water supply conduits, each measuring 46 feet wide by 66.5 feet high; (c) a forebay; (d) the Lewiston Pump-Generating Plant, measuring 975 feet long by 240 feet wide by 160 feet high; (e) the 1,900-acre Lewiston Reservoir at a maximum water surface elevation of 658 feet United States Lake Survey Datum; (f) the Robert Moses Niagara power plant, including an intake structure, measuring 1,100 feet long by 190 feet wide by 100 feet high; (g) a switch yard; and (h) appurtenant facilities.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural schedule and final amendments: At this time we anticipate preparing a draft environmental impact statement (DEIS). Recipients will have 60 days to provide the Commission with any written comments on the DEIS. All comments filed with the Commission will be considered in the final environmental impact statement (FEIS). The application will be processed according to the following Hydro Licensing Schedule. Revisions to the schedule will be made as appropriate.

Notice of application ready for environmental analysis, soliciting final terms and conditions: February 2006.

Notice of the Availability of the DEIS: May 2006.

Notice of the Availability of the FEIS: November 2006.

Ready for Commission's decision on the application: February 2007.

Final amendments to the application must be filed with the Commission no later than 30 days from the issuance date of the notice of ready for environmental analysis.

Magalie R. Salas,
Secretary.

[FR Doc. E5-5904 Filed 10-25-05; 8:45 am]

BILLING CODE 6717-01-P